DEPARTMENT OF THE INTERIOR

Fish and Wildlife Service

Notice of Intent To Conduct Public Scoping and Prepare an Environmental Impact Statement

AGENCY: Fish and Wildlife Service, Interior.

ACTION: Notice of intent.

SUMMARY: In accordance with the National Environmental Policy Act of 1969 (NEPA), this notice advises other agencies and the public that the Fish and Wildlife Service (Service) intends to prepare an Environmental Impact Statement (EIS) related to the proposed issuance of an Incidental Take Permit (Permit) to the Foster Creek Conservation District (District) in Douglas County, Washington for take of endangered and threatened species, pursuant to section 10(a)(1)(B) of the Endangered Species Act of 1973, as amended (Act). As required by the Act, the District is preparing a Habitat Conservation Plan (Plan). The Plan is being developed to address agricultural practices throughout Douglas County, and may include management activities on dryland crop farms, livestock ranches, and irrigated orchards. With issuance of the Permit, participating landowners would receive regulatory certainty with regard to the requirements of the Act by implementing the measures prescribed in the Plan.

The Service is furnishing this notice in order to advise other agencies and the public of our intentions and to announce the initiation of a minimum 30-day public scoping period. During the scoping period, other agencies and the public are invited to provide written comments on the scope of issues to be included in the EIS, which is expected to be available for public review and comment during the second quarter of 2001. Interested parties are encouraged to attend the scoping workshops or to provide written comments on the scope of the issues and range of alternatives for the draft EIS.

DATES: Written comments regarding the scope of the issues and range of alternatives for the draft EIS should be received on or before July 14, 2000. Scoping workshops will be held on June 29, 2000 (see ADDRESSES for times and location).

ADDRESSES: Comments and requests for additional information should be submitted to Chris Warren, Fish and Wildlife Service, 11103 East Montgomery Drive, Spokane, Washington, 99206, or call (509) 891-6839.

Scoping workshops will be held at the North-central Washington, Fairground, 601 North Monroe Street, Waterville, Washington, 98858. The workshops will be held from 3 p.m. to 5 p.m. and from 6 p.m. to 8 p.m. on June 29, 2000.

SUPPLEMENTARY INFORMATION: Conservation districts are legal subdivisions of the Washington State government, with powers and duties set forth in accordance with the Revised Code of Washington (RCW 89.08). Among other things, conservation districts are authorized to develop comprehensive long-range programs for the conservation of natural resources within their boundaries, to enter into agreements with other State and Federal agencies and the districts' landowners, and to administer the programs of other State and Federal agencies concerned with the conservation of natural resources. Based upon this authority, the Service anticipates the development of a programmatic Plan by the District. Upon completion and approval of detailed, site-specific farm plans that implement the terms of the programmatic Plan, individual landowners will receive permit coverage under section 10(a)(1)(B) of the Act through Certificates of Inclusion.

Douglas County is located in central Washington and encompasses over one million acres of land. It is anticipated that the activities covered under the Permit will include operation and management of dryland crop farms, liverstock ranches (each comprising roughly 48 percent of the country's total agricultural land base), and fruit orchards (comprising roughly 4 percent). Grazing activities that may be addressed include, among others, stocking types and rates, timing, use levels, and management of livestock facilities (fencing, holding areas, transportation, etc.). Farming activities that may be include are, among others, planting types and techniques, crop rotation, timing, weed and pest control, management of facilities, and irrigation activities. It is also anticipated that the measures of proposed Plan and Permit coverage will be coordinated with existing Federal and State programs for private landowners in Douglas County (Conservation Reserve Program, other Farm Bill programs, private lands initiatives, etc.). The District tentatively proposes that the Plan and Permit be in effect for 50 years.

Agricultural activities on private lands and the management activities of the District, along with those of other State and Federal agencies in Douglas County, have the potential to impact species subject to protection under the Act, as well as other unlisted species of concern to the Service. Section 10 of the Act contains provisions for the issuance of Permits to non-Federal landowners for the take of endangered and threatened species, provided the take is incidental to otherwise lawful activities and will not appreciably reduce the likelihood of the survival and recovery of the species in the wild. To received section 10 coverage under the act, applicants must prepare and submit to the Service for approval a Plan containing a strategy for minimizing and mitigating to the maximum extent practicable all take associated with the proposed activities. Applicants must also demonstrate that adequate funding will be provided to ensure the Plan will be implemented and monitored throughout its proposed life span. The mandatory elements of Plan and the criteria for issuance of Permits are contained in the Code of Federal Regulations (50 CFR 17.22, 17.32, and 222.22).

Section 9 of the Act and Federal regulations prohibit the “taking” of any species listed as endangered or threatened. The term “take” is defined under the Act to mean harass, harm, pursue, hunt, shoot, would, kill, trap, capture, or collect, or to attempt to engage in any such conduct. Harm is defined to include significant habitat modification or degradation where it actually kills or injures wildlife by significantly impairing essential behavioral patterns, including breeding, feeding, and sheltering.

The species currently listed under the Act that are being proposed for coverage under the Permit include the Columbia River Basin population of the bull trout (Salvelinus confluentus) and the coterminous United States population of the bald eagle (Haliaeetus leucocephalus), both currently listed as threatened. The District also plan to address a number of unlisted fish and wildlife species in the Plan, such as the western sage grouse (Centrocercus urophasianus phaios), Colombian sharp-tailed grouse (Tympanuchus phasianellus columbianus), and the pygmy rabbit (Brachylagus idahoensis), among other. Should any of the unlisted species addressed in the Plan be listed under the Act in the future, participating landowners would receive incidental take coverage for them under the specific provisions of the Permit. The District also plans to seek separate Permit coverage for several species listed under the Act that fall within the purview of the Secretary of Commerce, as administered by the National Marine Fisheries Service, including the upper Columbia River Basin populations of spring chinook salmon (Oncorhynchus tshawytscha) and steelhead ( O. mykiss), both listed as endangered, and the middle Columbia River population of steelhead, listed as threatened.

Under NEPA, reasonable alternatives to a proposed project must be developed and considered in the Service's environmental review. At a minimum, the alternatives developed must include: (1) A No Action alternative, which describes current management and resource conditions and potential future impacts incurred under this scenario; and (2) the Proposed Action, with thorough descriptions of its management features and anticipated resource conservation benefits and potential impacts. For the present environmental review, the No Action alternative will reflect the baseline conditions in Douglas County under current agricultural management practices. The Proposed action alternative will be represented by the District's Plan and its associated management measures. Additional project alternatives may be developed based upon input received from this and future scoping notices during development of the EIS.

Comments and suggestions are invited from all interested parties to ensure that the full range of issues related to these proposed actions are addressed and that all significant issues are identified. The Service requests that comments be as specific as possible. Comments are specifically requested to include information regarding: the direct, indirect, and cumulative impacts that implementation of the proposal could have on endangered and threatened species and their habitats; other possible alternatives; potential adaptive management and/or monitoring provisions; funding issues; baseline environmental conditions in Douglas County; other plans or projects that might be relevant to this project; and minimization and mitigation efforts. In addition to considering impacts on listed species and their habitats, the EIS must include information on impacts resulting from the alternatives on other components of the human environment. These other components include such things as air quality, water quality and quantity, geology and soils, cultural resources, other fish and wildlife species, social resources, and economic resources.

The environmental review for this project will be conducted in accordance with the requirements of NEPA (42 U.S.C. 4321 et seq.), Federal regulations implementing NEPA (40 CFR 1500-1508), other appropriate Federal laws and regulations, and the policies and procedures of the Service for compliance with those regulations.

Dated: May 22, 2000.
Carolyn A. Bohan,
Acting Regional Director, Region 1, Fish and Wildlife Service, Portland, Oregon.

[FR Doc. 00-13385 Filed 5-26-00; 8:45 am]

BILLING CODE 4310-55-M